DEPARTMENT OF AGRICULTURE

Agricultural Marketing Service

[Docket No. AMS-DA-10-0070; DA-10-06]

Notice of Request for an Extension and Revision of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget, for an extension of, and revision to a currently approved information collection for the National Research, Promotion, and Consumer Information Programs.

DATES: Comments on this notice must be received by November 30, 2010.

Additional Information: Interested persons are invited to submit written comments on the Internet at http://www.regulations.gov or to Whitney A. Rick, Promotion and Research Branch; Dairy Programs, AMS, U.S. Department of Agriculture; 1400 Independence Avenue, SW., Stop 0233; Washington, DC 20250-0233, (202) 720-6909. Comments should reference the docket number and the date and page number of this issue of the Federal Register and will be available for public inspection in the Promotion and Research Branch, Dairy Programs, AMS, USDA, Room 2958-S, 1400 Independence Avenue, SW., Washington, DC 20250-0233, during regular business hours, or can be viewed at http://www.regulations.gov.

SUPPLEMENTARY INFORMATION: Title: National Research, Promotion, and Consumer Information Programs. OMB Number: 0581-0093. Expiration Date, as approved by OMB: 11/30/2013.

Type of Request: Extension and Revision of a currently approved information collection.

Abstract: National research and promotion programs are designed to strengthen the position of a commodity in the marketplace, maintain and expand existing domestic and foreign markets, and develop new uses and markets for specified agricultural commodities. USDA has the responsibility for implementing and overseeing programs for a variety of commodities including beef, blueberries, cotton, dairy, eggs, fluid milk, Hass avocados, honey, lamb, mangos, mushrooms, peanuts, popcorn, pork, potatoes, sorghum, soybeans, and watermelons. The enabling legislation includes the Beef Promotion and Research Act of 1985 [7 U.S.C. 2901-2911]; Cotton Research and Promotion Act of 1966 [7 U.S.C. 2101-2118]; the Dairy Production Stabilization Act of 1983 [7 U.S.C. 4501-4514]; the Fluid Milk Promotion Act of 1990 [7 U.S.C. 6401-6417]; the Egg Research and Consumer Information Act [7 U.S.C. 2701-2718]; the Hass Avocado Promotion, Research, and Information Act [7 U.S.C. 7801-7813]; the Mushroom Promotion, Research, and Consumer Information Act of 1990 [7 U.S.C. 6101-6112]; the Popcorn Promotion, Research, and Consumer Information Act [7 U.S.C. 7481-7491]; the Pork Promotion, Research, and Consumer Information Act of 1985 [7 U.S.C. 4801-4819]; the Potato Research and Promotion Act [7 U.S.C. 2611-2627]; the Soybean Promotion, Research, and Consumer Information Act [7 U.S.C. 6301-6311]; the Watermelon Research and Promotion Act [7 U.S.C. 4901-4916]; and the Commodity Promotion, Research, and Information Act of 1996 [7 U.S.C. 7411-7425] (which governs the blueberry, honey, lamb, mango, peanut and sorghum programs). These programs appear in the Code of Federal Regulations at 7 CFR, parts 1150 and 1160, and parts 1205 through 1260.

These programs carry out projects relating to research, consumer information, advertising, sales promotion, producer information, market development, and product research to assist, improve, or promote the marketing, distribution, and utilization of their respective commodities. Approval of the programs is required through referendum of affected parties. The programs are administered by industry boards composed of producer, handler, processor, and in some cases, importer and public members appointed by the Secretary of Agriculture. Program funding is generated through assessments on designated industry segments.

The Secretary also approves the board's budgets, plans, and projects. These responsibilities have been delegated to AMS. The applicable commodity program areas within AMS have direct oversight of the respective programs.

The information collection requirements in this request are essential to carry out the intents of the various Acts authorizing such programs, thereby providing a means of administering the programs. The objective in carrying out this responsibility includes assuring the following: (1) Funds are collected and properly accounted for; (2) expenditures of all funds are for the purposes authorized by the enabling legislation and (3) the board's administration of programs conforms to USDA policy. The forms covered under this collection require the minimum information necessary to effectively carry out the requirements of the respective orders, and their use is necessary to fulfill the intents of the Acts as expressed in orders. The information collected is used only by authorized employees of the various boards and authorized employees of USDA.

The various boards utilize a variety of forms including; reports concerning status information such as handler and importer reports; transaction reports; exemption from assessment forms and reimbursement forms; forms and information concerning referenda including ballots; forms and information concerning board nominations and selection and acceptance statements; certification of industry organizations; and recordkeeping requirements. The forms and information covered under this information collection require the minimum information necessary to effectively carry out the requirements of the programs and their use is necessary to fulfill the intent of the applicable authorities.

As part of this renewal collection for the National Research, Promotion, and Consumer Information Programs, AMS is merging the “Sorghum Promotion, Research, and Information Order, 0581-0246;” “Lamb Promotion, Research and Information Program, 0581-0198;” “Honey Packers and Importers Research, Promotion, Consumer Education and Industry Information Order, Referendum Procedures, 0581-0245;” and “Establishment of the New Honey Packers and Importers R&P Program, 0581-0247.” Upon approval of this revision of 0581-0093, AMS will request a Discontinuation Request for 0581-0246, 0581-0198, 0581-0245, and 0581-0247 to retire these collections. This action will keep all research and promotion collections under one generic collection since similar forms are used to collect information and to prevent duplication of burden.

AMS is committed to complying with the E-Government Act, which requires Government agencies in general to provide the public the option of submitting information or transacting business electronically to the maximum extent possible.

Estimate of Burden: Public reporting burden for this collection of information is estimated to average 0.54 hours per response.

Respondents: Producers, processors, handlers, importers, and others in the marketing chain of a variety of agricultural commodities, and recordkeepers.

Estimated Number of Respondents: 325,579.

Estimated Total Annual Reponses: 896,027.

Estimated Number of Responses per Respondent: 2.75.

Estimated Total Annual Burden on Respondents: 334,711.71 hours.

Copies of this information collection can be obtained from Whitney A. Rick, Research and Promotion Branch; Dairy Programs at (202) 720-6909.

Comments may be submitted regarding, but is not limited to: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All comments received will be available for public inspection during regular business hours at the above address and may be viewed at http:www.regulations.gov. All responses to this notice will be summarized and included in the request for OMB approval. All comments will also become a matter of public record.

Dated: September 27, 2010.
David R. Shipman,
Acting Administrator, Agricultural Marketing Service.

[FR Doc. 2010-24627 Filed 9-30-10; 8:45 am]

BILLING CODE 3410-02-P